DEPARTMENT OF THE INTERIOR

Bureau of Land Management

[LLWO220000.16X.L10200000.JA0000.LXSIVEIS0000]

Notice of Availability of the Final Programmatic Environmental Impact Statement To Evaluate the Use of Herbicides on Public Lands Administered by the Bureau of Land Management

AGENCY: Bureau of Land Management, Interior.

ACTION: Notice.

SUMMARY: Pursuant to the National Environmental Policy Act of 1969, the BLM is making available for public review and comment the Final National Programmatic Environmental Impact Statement (EIS) on vegetation treatments involving the use of aminopyralid, fluroxypyr, and rimsulfuron herbicides on public lands administered by 11 BLM state offices in 17 western states, including Alaska. The BLM is the lead Federal agency for the preparation of this final Programmatic EIS in compliance with the requirements of NEPA. If a Record of Decision is approved, the BLM would be permitted to use three new herbicide formulations on public lands.

DATES: The BLM will not issue a final decision on the proposal for a minimum of 30 days after the date that the Environmental Protection Agency publishes its Notice of Availability in the Federal Register.

ADDRESSES: The Final Programmatic EIS and associated documents will be available for review in either hard copy or on compact disks at all BLM State, District, and Field Office public rooms. You can also review or download the document from the BLM Web site: http://blm.gov/3vkd.

FOR FURTHER INFORMATION CONTACT: Gina Ramos, Senior Weeds Specialist, telephone 202-912-7226, or Stuart Paulus, Project Manager, telephone 206-403-4287. Persons who use a telecommunications device for the deaf (TDD) may call the Federal Information Relay Service (FIRS) at 1-800-877-8339 to contact the referenced individuals during normal business hours. The FIRS is available 24 hours a day, 7 days a week, to leave a message or question with the above individuals. You will receive a reply during normal business hours.

SUPPLEMENTARY INFORMATION: The Final National Programmatic EIS proposes to add aminopyralid, fluroxypyr, and rimsulfuron to the BLM's approved list of herbicides for: (1) Controlling noxious weeds and other invasive species; and (2) Conserving and restoring native vegetation, watersheds, and fish and wildlife habitat. The Programmatic EIS evaluated the use of the three new herbicides as part of the BLM's vegetation treatment programs on public lands in 17 Western States. This action would increase the number of active ingredients approved for use, and would give the BLM increased flexibility and options when designing herbicide treatments. The Programmatic EIS is neither a land-use plan nor a land-use plan amendment. The Programmatic EIS will provide a comprehensive programmatic NEPA document to allow effective tiering and incorporation by reference of environmental effects and baseline cumulative impact assessment for new, revised, or existing land use and activity level plans and implementation projects that involve vegetation modification or maintenance. The analysis area includes only surface estate public lands administered by 11 BLM state offices: Alaska, Arizona, California, Colorado, Idaho, Montana (North Dakota/South Dakota), New Mexico (Oklahoma/Texas/Nebraska), Nevada, Oregon (Washington), Utah and Wyoming.

The BLM issued a Notice of Availability of the Draft Programmatic Environmental Impact Statement Using Aminopyralid, Fluroxypyr, and Rimsulfuron on June 19, 2015 (80 FR 35394). The BLM responded to public comments during the Draft Programmatic EIS public review period. Comment responses and the subsequent changes in the impact analysis as a result of public comments are documented in this Final Programmatic EIS per requirements under 40 CFR 1503.4. The BLM will prepare a Record of Decision for the Final Programmatic EIS after the 30-day period following publication of this notice.

Nancy Haug,
Acting Director, Resources and Planning.

[FR Doc. 2016-08022 Filed 4-7-16; 8:45 am]

BILLING CODE 4310-84-P